DEPARTMENT OF THE INTERIOR

Fish and Wildlife Service

Notice of Availability of an Environmental Assessment/Habitat Conservation Plan and Receipt of Application for Incidental Take of the Houston toad (Blair Warren—Sac-N-Pac)

AGENCY: U.S. Fish and Wildlife Service, Interior.

ACTION: Notice of availability; receipt of application.

SUMMARY: Blair Warren (Applicant) has applied to the U.S. Fish and Wildlife Service (Service) for an incidental take permit (TE-124123-0) pursuant to Section 10(a)(1)(B) of the Endangered Species Act (Act) of 1973, as amended (16 U.S.C. 1531 et seq.). The requested permit, which is for a period of five years, would authorize incidental take of the Houston toad. The proposed take would occur as a result of the construction and operation of a convenience store on a 1.43-acre (0.58-hectare) property on Highway 71 in the Tahitian Village Subdivision, Bastrop County, Texas. We invite the public to review and comment on the permit application and associated draft Environmental Assessment/Habitat Conservation Plan (EA/HCP).

DATES: To ensure consideration, written comments must be received on or before June 20, 2006.

ADDRESSES: Persons wishing to review the application may obtain a copy by writing to the Regional Director, U.S. Fish and Wildlife Service, P.O. Box 1306, Room 4102, Albuquerque, New Mexico 87103. Persons wishing to review the EA/HCP may obtain a copy by contacting Clayton Napier, U.S. Fish and Wildlife Service, 10711 Burnet Road, Suite 200, Austin, Texas 78758 (512/490-0057). Documents will be available for public inspection by written request, by appointment only, during normal business hours (8 a.m. to 4:30 p.m.) at the Service's Austin office. Written data or comments concerning the application and EA/HCP should be submitted to the Supervisor, U.S. Fish and Wildlife Service, 10711 Burnet Road, Suite 200, Austin, Texas 78758. Please refer to permit number TE-124123-0 when submitting comments. All comments received, including names and addresses, will become a part of the official administrative record and may be made available to the public.

FOR FURTHER INFORMATION CONTACT: Clayton Napier at U.S. Fish and Wildlife Service, 10711 Burnet Road, Suite 200, Austin, Texas 78758 (512/490-0057) or by e-mail, Clayton_Napier@fws.gov.

SUPPLEMENTARY INFORMATION: The Applicant has applied to the Service for a Section 10(a)(1)(B) incidental take permit for a period of five years in order to authorize incidental take of the Houston toad.

Section 9 of the Act prohibits the “taking” of endangered species such as the Houston toad. However, the Service, under limited circumstances, may issue permits to take endangered wildlife species incidental to, and not the purpose of, otherwise lawful activities.

We provide this notice under section 10(c) of the Act, and its implementing regulations (50 CFR 17.22), the National Environmental Policy Act (42 U.S.C. 4371 et seq.), and its implementing regulations (40 CFR 1506.6).

Applicant: Blair Warren plans to construct and operate a convenience store on a 1.43-acre property on Highway 71 in the Tahitian Village Subdivision, Bastrop County, Texas.

This action will eliminate 1.43-acres of Houston toad habitat and result in indirect impacts within the lot. The Applicant proposes to compensate for incidental take of the Houston toad by providing $4,290.00 to the Houston Toad Conservation Fund at the National Fish and Wildlife Foundation for the specific purpose of land acquisition and management within Houston toad habitat.

Geoffrey L. Haskett,
Acting Regional Director, Region 2, Albuquerque, New Mexico.

[FR Doc. E6-5984 Filed 4-20-06; 8:45 am]

BILLING CODE 4510-55-P